DEPARTMENT OF LABOR

Employment and Training Administration

[TA-W-65,762]

Chrysler, LLC, Sterling Heights Assembly Plant, Including On-Site Leased Workers from Caravan Knight Facilities Management LLC; Sterling Heights, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on April 27, 2009, applicable to workers of Chrysler, LLC, Sterling heights Assembly Plant, Sterling Heights, Michigan. The notice was published in the Federal Register on May 18, 2009 (74 FR 23214).

At the request of the State agency, the Department reviewed the certification for workers of the subject firm. The workers assemble the Chrysler Sebring, Chrysler Sebring Convertible and the Dodge Avenger.

New information shows that workers leased from Caravan Knight Facilities Management LLC were employed on-site at the Sterling Heights, Michigan location of Chrysler, LLC, Sterling Heights Assembly Plant. The Department has determined that these workers were sufficiently under the control of the subject firm to be considered leased workers.

Based on these findings, the Department is amending this certification to include workers leased from Caravan Knight Facilities Management LLC working on-site at the Sterling Heights, Michigan location of Chrysler, LLC, Sterling Heights Assembly Plant.

The amended notice applicable to TA-W-65,762 is hereby issued as follows:

All workers of Chrysler, LLC, Sterling Heights Assembly Plant, including on-site leased workers from Caravan Knight Facilities Management LLC, Sterling Heights, Michigan, who became totally or partially separated from employment on or after March 8, 2008, through April 27, 2011, are eligible to apply for adjustment assistance under Section 223 of the Trade Act of 1974, and are also eligible to apply for alternative trade adjustment assistance under Section 246 of the Trade Act of 1974.

Signed at Washington, DC, this 29th day of June 2009.
Richard Church,
Certifying Officer, Division of Trade Adjustment Assistance.

[FR Doc. E9-18040 Filed 7-28-09; 8:45 am]

BILLING CODE 4510-FN-P